DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before January 24, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: November 17, 2010.
Darrin A. King,
Director, Information Collection Clearance Division, Regulatory Information Management Services Office of Management.

Office of the Secretary

Type of Review: Extension.

Title of Collection: Streamlined Process for Education Department General Administrative Regulations (EDGAR) Approved Grant Applications.

OMB Control Number: 1894-0004.

Agency Form Number(s): N/A.

Frequency of Responses: As necessary.

Affected Public: State, Local, or Tribal Government, State Education Agencies or Local Educational Agencies.

Total Estimated Number of Annual Responses: 1.

Total Estimated Number of Annual Burden Hours: 1.

Abstract: This information collection clearance request seeks an extension of approval for an established expedited process which permits U.S. Department of Education (ED) program offices to make selection criteria substitutions under the Education Department General Administrative Regulations (EDGAR) grant application without having to submit to OMB a previously cleared application package for another review. Usage of the streamlined process for EDGAR approved grant applications, establishes a process for programs to submit an abbreviated list of items for an expedited streamlined approval process by OMB. Many discretionary grant programs in ED use the generic application package cleared under OMB #1894-0006 which allows programs to pick and choose the selection criteria for their grant competitions from among the general EDGAR selection criteria shown at 34 CFR 75.210. The remaining discretionary grant programs use program-specific application packages, cleared by OMB on a case-by-case basis, that require applicants to address specific selection criteria unique to the program, usually derived from program legislation or regulation. During the three-year period for which its specific application package is cleared, a program might need to substitute one or more of the EDGAR generic selection criteria, mentioned above, for one or more of the program-specific criteria contained in the package originally cleared by OMB. These substitutions generally result in a minor alteration in the burden hours imposed by the collection. Using an already approved application package for such actions reduces burden on the public best reaching the Departments goal of administering application competitions in a timely and efficient manner.

Requests for copies of the proposed information collection request may be accessed from http://edicsweb.ed.gov, by selecting the “Browse Pending Collections” link and by clicking on link number 4449. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2010-29532 Filed 11-22-10; 8:45 am]

BILLING CODE 4000-01-P